Title 3—

The President

Memorandum of August 12, 2013

Reviewing Our Global Signals Intelligence Collection and Communications Technologies

Memorandum for the Director of National Intelligence

The United States, like all nations, gathers intelligence in order to protect its national interests and to defend itself, its citizens, and its partners and allies from threats to our security. The United States cooperates closely with many countries on intelligence matters and these intelligence relationships have helped to ensure our common security.

Recent years have brought unprecedented and rapid advancements in communications technologies, particularly with respect to global telecommunications. These technological advances have brought with them both great opportunities and significant risks for our Intelligence Community: opportunity in the form of enhanced technical capabilities that can more precisely and readily identify threats to our security, and risks in the form of insider and cyber threats.

I believe it is important to take stock of how these technological advances alter the environment in which we conduct our intelligence mission. To this end, by the authority vested in me as President by the Constitution and the laws of the United States of America, I am directing you to establish a Review Group on Intelligence and Communications Technologies (Review Group).

The Review Group will assess whether, in light of advancements in communications technologies, the United States employs its technical collection capabilities in a manner that optimally protects our national security and advances our foreign policy while appropriately accounting for other policy considerations, such as the risk of unauthorized disclosure and our need to maintain the public trust. Within 60 days of its establishment, the Review Group will brief their interim findings to me through the Director of National Intelligence (DNI), and the Review Group will provide a final report and recommendations to me through the DNI no later than December 15, 2013.

You are hereby authorized and directed to publish this memorandum in the Federal Register.

THE WHITE HOUSE,

Washington, August 12, 2013.

[FR Doc. 2013-19960

Filed 8-14-13; 8:45 am]

Billing code 3910-A7